DEPARTMENT OF ENERGY

Secretary of Energy Advisory Board; Notice of Open Meeting

AGENCY: Secretary of Energy Advisory Board—Openness Advisory Panel; Department of Energy.

SUMMARY: This notice announces a meeting of the Secretary of Energy Advisory Board's Openness Advisory Panel. The Federal Advisory Committee Act (Public Law 92-463, 86 Stat. 770), requires that agencies publish these notices in the Federal Register to allow for public participation.

DATES: Friday, November 17, 2000, 9 a.m.-3:30 p.m.

ADDRESSES: U.S. Department of Energy, Program Review Center (Room 8E-089), Forrestal Building, 1000 Independence Avenue, SW., Washington, DC 20585.

Note: Members of the public are requested to contact the Office of the Secretary of Energy Advisory Board at (202) 586-7092 in advance of the meeting to expedite their entry to the Forrestal Building on the day of the meeting. Public participation is welcomed.

FOR FURTHER INFORMATION CONTACT: Mary Louise Wagner, Executive Director or Richard Burrow, Deputy Director, Secretary of Energy Advisory Board (AB-1), U.S. Department of Energy, 1000 Independence Avenue, SW., Washington, DC 20585, (202) 586-7092 or (202) 586-6279 (fax).

SUPPLEMENTARY INFORMATION: The purpose of the Openness Advisory Panel is to provide advice to the Secretary of Energy Advisory Board regarding the status and strategic direction of the Department's classification and declassification policies and programs, and other aspects of the Department's ongoing Openness Initiative. The Panel's work will help institutionalize the Department's Openness Initiative.

Tentative Agenda

The agenda for the November 17 meeting has not been finalized but will include a discussion of the results of the Openness Advisory Panel's community relations pilot reviews conducted at the Fernald Environmental Management site, Lawrence Berkeley National Laboratory and Lawrence Livermore National Laboratory. In addition, the Openness Advisory Panel will review and discuss a draft report documenting the findings and recommendations of the OAP's Community Relations Pilot Review Members of the Public wishing to comment on issues before the Openness Advisory Panel will have an opportunity to address the Panel during a scheduled public comment period.

A final agenda will be available at the meeting.

Public Participation

In keeping with procedures, members of the public are welcome to observe the business of the Openness Advisory Panel and submit written comments or comment during the scheduled public comment periods. The Chairman of the Panel is empowered to conduct the meeting in a fashion that will, in the Chairman's judgment, facilitate the orderly conduct of business. During its meeting in Washington, D.C. the Panel welcomes public comment. Members of the public will be heard in the order in which they sign up at the beginning of the meeting. The Panel will make every effort to hear the views of all interested parties. You may submit written comments to Mary Louise Wagner, Executive Director, Secretary of Energy Advisory Board, AB-1, U.S. Department of Energy, 1000 Independence Avenue, SW., Washington, DC 20585. This notice is being published less than 15 days before the date of the meeting due to the late resolution of programmatic issues.

Minutes

A copy of the minutes and a transcript of the meeting will be made available for public review and copying approximately 30 days following the meeting at the Freedom of Information Public Reading Room, 1E-190 Forrestal Building, 1000 Independence Avenue, SW., Washington, DC, between 9 a.m. and 4 p.m., Monday through Friday except Federal holidays. Further information on the Secretary of Energy Advisory Board and its subcommittees may be found at the Board's web site, located at http://www.hr.doe.gov/seab.

Issued at Washington, DC, on November 2, 2000.
Rachel M. Samuel,
Deputy Advisory Committee Management Officer.

[FR Doc. 00-28498 Filed 11-6-00; 8:45 am]

BILLING CODE 6450-01-P